DEPARTMENT OF TRANSPORTATION

Federal Aviation Administration

14 CFR Part 39

[Docket No. FAA-2005-19676; Directorate Identifier 2004-NM-138-AD]

RIN 2120-AA64

Airworthiness Directives; Empresa Brasileira de Aeronautica S.A. (EMBRAER) Model EMB-135BJ, -135ER, -135KE, -135KL, and -135LR Airplanes; and Model EMB-145, -145ER, -145MR, -145LR, -145XR, -145MP, and -145EP Airplanes

AGENCY: Federal Aviation Administration (FAA), Department of Transportation (DOT).

ACTION: Supplemental notice of proposed rulemaking (NPRM); reopening of comment period.

SUMMARY: The FAA is revising an earlier NPRM for an airworthiness directive (AD) that applies to certain EMBRAER Model EMB-135 and -145 series airplanes. The original NPRM would have required determining the torque values of the screws that attach the seat tracks to the airplane, and corrective action if necessary. The original NPRM resulted from a report of undertorqued screws. This action revises the original NPRM by referring to revised service information and expanding the applicability. We are proposing this supplemental NPRM to prevent improper torque of those screws, which in the case of a hard landing or a high deceleration impact condition could result in damage to the seat and possible subsequent injury to the passenger.

DATES: We must receive comments on this supplemental NPRM by June 20, 2006.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Todd Thompson, Aerospace Engineer, International Branch, ANM-116, Transport Airplane Directorate, FAA, 1601 Lind Avenue, SW., Renton, Washington 98055-4056; telephone (425) 227-1175; fax (425) 227-1149.

SUPPLEMENTARY INFORMATION:

Comments Invited

We invite you to submit any relevant written data, views, or arguments regarding this supplemental NPRM. Send your comments to an address listed in the ADDRESSES section. Include the docket number “Docket No. FAA-2005-19676; Directorate Identifier 2004-NM-138-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM applies to certain EMBRAER Model EMB-135 and -145 series airplanes. The original NPRM was published in the Federal Register on November 24, 2004 (69 FR 68270). The original NPRM proposed to require determining the torque values of the screws that attach the seat tracks to the airplane, and corrective action if necessary.

Explanation of New Service Information

Since we issued the proposed AD, EMBRAER has revised Service Bulletin 145-53-0049. The proposed AD cited the original service bulletin, dated February 16, 2004. Revision 03, dated August 10, 2005:

• Revises the effectivity.

• Provides corrected torque values.

• Reduces the number of screws to be inspected (for non-EMB-145XR airplanes only) to the passenger seat attachment point screw and the three screws immediately before and after this point.

EMBRAER has also revised Service Bulletin 145LEG-53-0015. The proposed AD cited the original service bulletin, dated February 16, 2004. Revision 02, dated May 19, 2005, revises the effectivity and provides corrected torque values.

Accomplishing the actions specified in the service information is intended to adequately address the unsafe condition. The Departmento de Aviacao Civil (DAC), which is the airworthiness authority for Brazil, mandated the service information and issued revised Brazilian airworthiness directive 2004-05-03R1, effective September 16, 2005, to ensure the continued airworthiness of these airplanes in Brazil.

Comments

We have considered the following comments on the original NPRM.

Request To Clarify Required Torque Values

The commenter, ExpressJet, Inc., notes a discrepancy in the torque values specified in the original version of Service Bulletin 145-53-0049 and the aircraft maintenance manual (AMM II, at 53-01-06). The commenter notes that the torque values should be the same in the service bulletin and the AMM to ensure that the standards of the AD are maintained for post-modification airplanes.

We agree. As explained previously, the correct torque values are provided in revised Service Bulletins 145-53-0049 and 145LEG-53-0015. We have confirmed with the manufacturer that it would not be possible to achieve the incorrect torque values specified in the original service bulletins. We have revised this supplemental NPRM to refer to the revised service bulletins for the required actions.

Request To Remove Requirement To Apply Torque Seal

The same commenter requests that we remove the proposed requirement to apply the torque seal. The commenter notes that, during installation (and any subsequent removal), torque seal is applied to the face of the attachment screw and the track where the seat attachment point contacts the track. Because the seat has to slide in the track a little to position correctly, the commenter contends that any evidence of torque seal at the seat attachment point will be removed or otherwise obliterated. And if the torque seal can be so easily removed, the commenter suggests that applying it is unnecessary. ExpressJet reports that no torque seal has been found on the seat track fasteners of 25 (newly affected) airplanes in its fleet.

We agree. The service bulletins merely recommend the torque seal application. We have removed this requirement from paragraph (f) in this supplemental NPRM.

Request To Revise Compliance Time

The same commenter requests that the torque check be done once during the C-check, but provides no justification for the request.

We disagree with the request. We have determined that the compliance time, as proposed, represents the maximum interval of time allowable for the affected airplanes to continue to safely operate before the torque check is done. Since maintenance schedules vary among operators, there would be no assurance that the torque check would be done during that maximum interval. However, according to the provisions of paragraph (h) in this supplemental NPRM, we may approve requests to adjust the compliance time if the request includes data proving that a different compliance time would provide an acceptable level of safety.

Additional Changes To Original NPRM

We have revised this action to clarify the appropriate procedure for notifying the principal inspector before using any approved AMOC on any airplane to which the AMOC applies.

We have revised the applicability of the original NPRM to identify model designations as published in the most recent type certificate data sheet for the affected models.

After the original NPRM was issued, we reviewed the figures we have used over the past several years to calculate AD costs to operators. To account for various inflationary costs in the airline industry, we find it necessary to increase the labor rate used in these calculations from $65 per work hour to $80 per work hour. The cost impact information, below, reflects this increase in the specified hourly labor rate.

FAA's Determination and Proposed Requirements of the Supplemental NPRM

Certain changes discussed above expand the scope of the original NPRM; therefore, we have determined that it is necessary to reopen the comment period to provide additional opportunity for public comment on this supplemental NPRM.

Costs of Compliance

The following table provides the estimated costs for U.S. operators to comply with this supplemental NPRM. This supplemental NPRM would affect about 539 airplanes of U.S. registry.

Estimated Costs
Airplane(s) | Work hours | Average labor rate/hour | Parts | Cost/airplane
EMB-135 BJ | 24 | $80 | Minimal | $1,920
Others | 28 | 80 | Minimal | 2,240

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

EMPRESA BRASILEIRA DE AERONAUTICA S.A. (EMBRAER): Docket No. FAA-2005-19676; Directorate Identifier 2004-NM-138-AD.

Comments Due Date

(a) The FAA must receive comments on this AD action by June 20, 2006.

Affected ADs

(b) None.

Applicability

(c) This AD applies to EMBRAER Model EMB-135BJ, -135ER, -135KE, -135KL, and -135LR airplanes; and EMB-145, -145ER, -145MR, -145LR, -145XR, -145MP, and -145EP airplanes; certificated in any category; as listed in EMBRAER Service Bulletin 145LEG-53-0015, Revision 02, dated May 19, 2005, or 145-53-0049, Revision 03, dated August 10, 2005.

Unsafe Condition

(d) This AD was prompted by a report indicating that some screws that attach the passenger seat tracks were undertorqued. We are issuing this AD to prevent improper torque of those screws, which in the case of a hard landing or a high deceleration impact condition could result in damage to the seat and possible subsequent injury to the passenger.

Compliance

(e) You are responsible for having the actions required by this AD performed within the compliance times specified, unless the actions have already been done.

Inspection

(f) Within 5,000 flight hours or 36 months after the effective date of this AD, whichever occurs first, determine the torque values of the applicable screws that attach the seat tracks to the airplane. Use the Accomplishment Instructions of EMBRAER Service Bulletin 145LEG-53-0015, Revision 02, dated May 19, 2005 (for Model EMB-135BJ airplanes), or Service Bulletin 145-53-0049, Revision 03, dated August 10, 2005 (for the remaining airplanes). For any screw that has a torque value outside the limits specified in the service bulletin: Before further flight, retorque the screw in accordance with the Accomplishment Instructions of the service bulletin. Although the service bulletins recommend applying torque seal to the heads of the screws, this AD does not require that action.

Credit for Prior Accomplishment

(g) Accomplishment of actions specified in the applicable service bulletin listed in Table 1 of this AD is also acceptable for compliance with the corresponding requirements of this AD.

Table 1.—Credit Service Bulletins
EMBRAER Service Bulletin | Revision | Date
145LEG-53-0015 | 01 | September 1, 2004.
145-53-0049 | 01 02 | September 1, 2004. November 26, 2004.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(i) Brazilian airworthiness directive 2004-05-03R1, effective September 16, 2005, also addresses the subject of this AD.

Issued in Renton, Washington, on May 18, 2006.
Kevin M. Mullin,
Acting Manager, Transport Airplane Directorate, Aircraft Certification Service.

[FR Doc. E6-8121 Filed 5-25-06; 8:45 am]

BILLING CODE 4910-13-P